DEPARTMENT OF COMMERCE

National Oceanic and Atmospheric Administration

[I.D. 090705C]

Mid-Atlantic Fishery Management Council; Public Hearings; Correction

AGENCY: National Marine Fisheries Service (NMFS), National Oceanic and Atmospheric Administration (NOAA), Commerce.

ACTION: Notice of public scoping meetings, request for comments; correction.

SUMMARY: On September 12, 2005, a notice of public hearings by the Mid-Atlantic Fishery Management Council was announced in the Federal Register. That document contained an error in relation to the comment acceptance period under the DATES heading. This document corrects that error. All other information remains the same.

DATES: Written comments will be accepted until October 31, 2005.

ADDRESSES: Comments may be submitted through any of the following methods:

• Mail: Daniel T. Furlong, Executive Director, Mid-Atlantic Fishery Management Council, 300 S. New Street, Dover, DE 19904

• Fax: 302-674-5399

• Email: info@mafmc.org

FOR FURTHER INFORMATION CONTACT: Daniel T. Furlong, Executive Director of the Mid-Atlantic Fishery Management, 302-674-2331, ext. 19.

SUPPLEMENTARY INFORMATION:

Background

In FR doc. E5-4969, on page 53780 of the September 12, 2005, issue of the Federal Register, under the DATES heading, the comment acceptance period was listed as November 15, 2005. The correct date for the end of the comment acceptance period should read October 31, 2005. The DATES heading of this document reflects the change.

Dated: September 21, 2005.
Emily Menashes,
Acting Director, Office of Sustainable Fisheries, National Marine Fisheries Service.

[FR Doc. 05-19166 Filed 9-23-05; 8:45 am]

BILLING CODE 3510-22-S